DEPARTMENT OF VETERANS AFFAIRS

[OMB Control No. 2900-0860]

Agency Information Collection Activity Under OMB Review: Reimbursement of Adoption Expenses for Certain Veterans

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before August 29, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0860” in any correspondence.

FOR FURTHER INFORMATION CONTACT: Danny S. Green, Office of Quality, Performance and Risk (OQPR), Department of Veterans Affairs, 810 Vermont Avenue NW, Washington, DC 20420, (202) 421-1354 or email danny.green2@va.gov. Please refer to “OMB Control No. 2900-0860” in any correspondence.

SUPPLEMENTARY INFORMATION:

Authority: 44 U.S.C. 3501-21.

Title: Reimbursement of Adoption Expenses for Certain Veterans (VA Form 10-10152).

OMB Control Number: 2900-0860.

Type of Review: Extension and revision of a currently approved collection.

Abstract: Section 260 of the Continuing Appropriations and Military Construction, Veterans Affairs, and Related Agencies Appropriations Act, 2017, and Zika Response and Preparedness Act (Pub. L. 114-223) states that VA may use appropriated funds available to VA for the Medical Services account to provide, among other things, reimbursement of adoption expenses to a covered Veteran. “Covered Veteran” means a Veteran who has a service-connected disability that results in the inability of the Veteran to procreate without the use of fertility treatment. The term “adoption reimbursement” is defined at Public Law 114-223 section 260(a)(4) to mean reimbursement for the adoption-related expenses for an adoption that is finalized after the date of the enactment of the Act under the same terms as apply under the adoption reimbursement program of the Department of Defense, as authorized in Department of Defense Instruction 1341.09, including the reimbursement limits and requirements set forth in such instruction.

This law was enacted on September 29, 2016, and funding for the program is authorized through September 30, 2018. VA's authority to provide reimbursement of qualifying adoption expenses to the same cohort described in Public Law 114-223 section 260 was subsequently renewed and extended in nearly identical form in section 236 of Division J, Military Construction, Veterans Affairs, and Related Agencies Appropriations Act, 2018, Public Law 115-141 (March 23, 2018) (the “2018 Act”). Under this most recent authority, VA's adoption expense reimbursement program remains subject to the funding period covered by the 2018 Act and the availability of appropriations.

To implement this benefit, VA has developed VA Form 10-10152, paralleling DD 2675, which requires any Veteran requesting reimbursement of qualifying adoption expenses to submit the same types of evidence as required under the DoD policy, as mandated by Public Law 114-223 section 260. VA Form 10-10152 was previously approved by OMB through the PRA clearance process, and VA now seeks an extension of that approval of this information collection.

An agency may not conduct or sponsor, and a person is not required to respond to, a collection of information unless it displays a currently valid OMB control number. The Federal Register Notice with a 60-day comment period soliciting comments on this collection of information was published at 84 FR 24201 on May 24, 2019, pages 24201 and 24202.

Affected Public: Individuals or Households.

Estimated Annual Burden: 480 hours.

Estimated Average Burden per Respondent: 6 hours.

Frequency of Response: One time.

Estimated Number of Respondents: 80.

By direction of the Secretary.
Danny S. Green,
Interim VA Clearance Officer, Office of Quality, Performance and Risk (OQPR), Department of Veterans Affairs.

[FR Doc. 2019-16103 Filed 7-29-19; 8:45 am]

BILLING CODE 8320-01-P